UNITED STATES INSTITUTE OF PEACE

Announcement of the Priority Grant Competition Effective Immediately

AGENCY: United States Institute of Peace.

ACTION: Notice.

SUMMARY: The Agency announces its ongoing Priority Grant Competitions. The Priority Grant Competitions are restricted to projects that fit specific themes or topics identified by USIP as a priority.

The current Priority Grant Competitions are outlined below.

• Reassessing Peacebuilding in Uncertain Times—In this uncertain and fluid context, USIP is inviting innovative proposals from U.S.-based academic institutions, research and practitioner organizations, and others for collaborative projects that reflect on, help clarify, and flesh out one or more key issues and propose new approaches and responses to peacebuilding challenges. The deadline for submitting initial concept notes is March 21, 2017. For more information: https://www.usip.org/grants-fellowships/grants/reassessing-peacebuilding-uncertain-times.

• What Makes for Effective Peace Processes: A Comparative Approach—Under this grant competition, the United States Institute of Peace encourages proposals for research and analysis on what makes a complex peace process effective, how the success of a peace process is defined, and if successful processes share common elements. The deadline for submitting initial concept notes is March 21, 2017. Awards will be made in September, 2017. For more information: https://www.usip.org/grants-fellowships/grants/what-makes-effective-peace-processes-comparative-approach.

Deadline: March 21, 2017.

Please visit our Web site at: https://www.usip.org/grants-fellowships/grants/ for specific information on the competitions as well as instructions about how to apply.

FOR FURTHER INFORMATION CONTACT: United States Institute of Peace Grant Program, Priority Grant Competitions, 2300 Constitution Avenue NW., Washington, DC 20037, Email: GrantsAdministration@usip.org.

Dated: March 14, 2017.
Joseph Lataille,
Chief Financial Officer.

[FR Doc. 2017-05476 Filed 3-23-17; 8:45 am]

BILLING CODE 6820-AR-M